NUCLEAR WASTE TECHNICAL REVIEW BOARD

Notice of Meeting

Board Meeting: February 24 and 25, 2003—Las Vegas, Nevada: panels of the Nuclear Waste Technical Review Board will meet to review (1) seismic issues and (2) waste management system operations associated with a Yucca Mountain repository.

Pursuant to its authority under section 5051 of Public Law 100-203, Nuclear Waste Policy Amendments Act of 1987, on Monday, February 24, 2003, and Tuesday, February 25, 2003, panels of the Nuclear Waste Technical Review Board will meet in Las Vegas, Nevada, to review matters associated with a potential Yucca Mountain repository. The meetings are open to the public, and opportunities for public comment will be provided. The Board is charged by Congress with reviewing the technical and scientific validity of U.S. Department of Energy (DOE) activities related to managing spent nuclear fuel and high-level radioactive waste.

The Board panel meetings will be held at the Best Western Tuscany Suites and Casino, 255 East Flamingo Road, Las Vegas, NV 89109. The telephone number is (702) 947-5918; the fax number is (702) 732-2564. The meeting will start at 8 a.m. each day.

On February 24, the Board's Panel on the Repository and Panel on Site Characterization will meet jointly to discuss seismic issues. Following he call to order and introductory statements, the panel will review how probabilistic earthquake ground motions were developed by the DOE. Project ground motions developed for the Yucca Mountain Project (YMP) will be discussed. The DOE will outline the YMP approach to both preclosure design and postclosure performance analyses for seismic events. The evaluation will include very low probability site-specific seismic ground motions, plans and/or conclusions, and the significance of geological observations on limiting ground motions. The presentations will include consideration of a general approach to postclosure seismic events on the response of waste package, drip shield, and the in-drift configuration as incorporated into performance and drift stability analyses. Following the technical presentations, a round-table will specifically address: Are ground motions realistic and/or appropriate in light of their intended use? If not, what might be an alternate approach? are the approaches to seismic preclosure and postclosure issues appropriate? If not, what might be some alternate approaches? Representatives of the State of Nevada will also participate in the meeting.

On February 25, the Board's Waste Management System Panel will meet to review the DOE's plans for operating the waste management system associated with a Yucca Mountain repository. Following the call to order and introductory statements, the panel will review the DOE's plans for waste acceptable at nuclear power plants and other points of origin. The DOE will then discuss its efforts to develop a transportation plan for transporting spent fuel and high-level radioactive waste to a Yucca Mountain repository. A presentation on industry experience in transporting highly radioactive materials will be followed by presentation giving the view of state and local governments potentially affected by transportation to the repository. The meeting will conclude with DOE presentations of its plans for designing and operating the surface facilities and the underground emplacement areas of a Yucca Mountain repository.

At the conclusion of each meeting, a public comment period has been scheduled. Those wanting to speak during the public comment periods are encouraged to sign the “Public Comment Register” at the check-in table. A time limit may have to be set on individual remarks, but written comments of any length may be submitted for the record.

A detailed agenda will be available approximately one week before each meeting. Copies of the agendas can be requested by telephone or obtained from the Board's Web site at www.nwtrb.gov. Beginning about March 31, 2003, transcripts of the meetings will be available on the Board's Web site, via e-mail, on computer disk, and on a library-loan basis in paper format from Davonya Barnes of the Board staff.

A block of rooms has been reserved at the Best Western Tuscany Hotel. Reservations must be made by February 3, 2003, to obtain the meeting rate. When making a reservation, please state that you are attending the Nuclear Waste Technical Review meeting. For more information, contact the NWTRB; Karyn Severson, External Affairs; 2300 Clarendon Boulevard, Suite 1300; Arlington, VA 22201-3367; telephone 703-235-4473; fax 703-235-4495; or by “contact form” at http://www.nwtrb.gov.

The Nuclear Waste Technical Review Board was created by Congress in the Nuclear Waste Policy Amendments Act of 1987. The Board's purpose is to evaluate the technical and scientific validity of activities undertaken by the Secretary of Energy related to disposal of the nation's spent nuclear fuel and high-level radioactive waste. In the same legislation, Congress directed the DOE to characterize a site at Yucca Mountain, Nevada, to determine its suitability as the location of a potential repository for permanently disposing of spent nuclear fuel and high-level radioactive waste.

Dated: January 15, 2003.
William D. Barnard,
Executive Director, Nuclear Waste Technical Review Board.

[FR Doc. 03-1258 Filed 1-21-03; 8:45 am]

BILLING CODE 6820-AM-M